FEDERAL COMMUNICATIONS COMMISSION

47 CFR Part 73

[DA 05-1778; MB Docket No. 04-82, RM-10877]

Radio Broadcasting Services; Pima, AZ

AGENCY: Federal Communications Commission.

ACTION: Final rule.

SUMMARY: The Audio Division grants a Petition for Rule Making filed by Calvary Chapel of Tucson requesting the reservation of vacant Channel 296A at Pima, Arizona for noncommercial educational use. See 69 FR 18860, April 9, 2004. A staff engineering analysis determines that Channel *296A can be allotted at Pima in compliance with the Commission's minimum distance spacing requirements at reference coordinates 32-53-36 NL and 109-49-42 WL.

DATES: Effective August 11, 2005.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 04-82, adopted June 23, 2005, and released June 27, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Arizona, is amended by removing Channel 296A and by adding Channel *296A at Pima.

Federal Communications Commission.
John A. Karousos,
Assistant Chief, Audio Division, Media Bureau.

[FR Doc. 05-13570 Filed 7-12-05; 8:45 am]

BILLING CODE 6712-01-P